NUCLEAR REGULATORY COMMISSION

[Docket No. 50-328; NRC-2025-0063]

Tennessee Valley Authority; Sequoyah Nuclear Plant, Unit 2; Exemption

AGENCY: Nuclear Regulatory Commission.

ACTION: Notice; issuance.

SUMMARY: The U.S. Nuclear Regulatory Commission (NRC) has issued an exemption in response to a request dated February 5, 2025, from Tennessee Valley Authority. The exemption authorizes a one-time exemption for Sequoyah Nuclear Plant, Unit 2, to allow the use of the less restrictive work hour limitations described in NRC regulations for a 21-day period starting no earlier than March 24, 2025, and no later than May 15, 2025.

DATES: The exemption was issued on March 20, 2025.

ADDRESSES: Please refer to Docket ID NRC-2025-0063 when contacting the NRC about the availability of information regarding this document. You may obtain publicly available information related to this document using any of the following methods:

• Federal Rulemaking Website: Go to https://www.regulations.gov and search for Docket ID NRC-2025-0063. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The exemption request dated February 5, 2025, is available in ADAMS under Accession No. ML25036A070.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kimberly Green, Office of Nuclear Reactor Regulation, U.S. Nuclear Regulatory Commission, Washington, DC 20555-0001; telephone: 301-415-1627; email: Kimberly.Green@nrc.gov.

SUPPLEMENTARY INFORMATION: The text of the exemption is attached.

Dated: March 21, 2025.
For the Nuclear Regulatory Commission.
Kimberly Green,
Senior Project Manager, Plant Licensing Branch II-2, Division of Operating Reactor Licensing, Office of Nuclear Reactor Regulation.

Attachment—Exemption

Nuclear Regulatory Commission

Docket No. 50-328

Tennessee Valley Authority; Sequoyah Nuclear Plant, Unit 2; Exemption

I. Background

The Tennessee Valley Authority (TVA, the licensee) is the holder of Renewed Facility Operating License No. DPR-79, which authorizes the operation of Sequoyah Nuclear Plant (Sequoyah), Unit 2. The license provides, among other things, that the facility is subject to all applicable rules, regulations, and orders of the U.S. Nuclear Regulatory Commission (NRC, the Commission) now or hereafter in effect. Sequoyah consists of two pressurized-water reactors located in Hamilton County, Tennessee.

II. Request/Action

By letter dated February 5, 2025 (Agencywide Documents Access and Management System (ADAMS) Accession No. ML25036A070), and pursuant to Title 10 of the Code of Federal Regulations (10 CFR) part 26, “Fitness for Duty Programs,” section 26.9, “Specific exemptions,” TVA requested a one-time exemption from the work hour requirements in 10 CFR 26.205, “Work hours.” Specifically, TVA requested to use the work hour requirements in 10 CFR 26.205(d)(4), which are applicable during the first 60 days of a unit outage, in lieu of the work hour requirements in 10 CFR 26.205(d)(7), for a period of no more than 21 days for individuals specified in 10 CFR 26.4(a)(1), (a)(2), and (a)(4).

Licensees are required to control the work hours of any individual who performs the duties identified in 10 CFR 26.4(a). One way of doing this is by complying with the 10 CFR 26.205(d)(7) requirements for maximum average work hours wherein the individuals may not work more than a weekly average of 54 hours, calculated using an averaging period of up to 6 weeks, which advances by 7 consecutive calendar days at the finish of every averaging period. However, according to 10 CFR 26.205(d)(4), licensees need not meet these requirements during the first 60 days of a unit outage for individuals specified in 10 CFR 26.4(a)(1) through (a)(4), while those individuals are working on outage activities. Instead, licensees shall ensure that the individuals specified in 10 CFR 26.4(a)(1) through (a)(3) have at least 3 days off in each successive (i.e., non-rolling) 15-day period and that the individuals specified in 10 CFR 26.4(a)(4) have at least 1 day off in any 7-day period. This alternative work hour requirement is known as the outage minimum days off (MDO) requirement.

Sequoyah, Unit 2, entered an unplanned shutdown on July 30, 2024. During this unplanned outage, the licensee commenced an extended turbine generator outage. This allowed the licensee to administer outage work hour controls in accordance with 10 CFR 26.205(d)(4). Although the outage work hour controls expired after the first 60 days of the outage on September 28, 2024, the outage remains in progress and is scheduled to be completed in April 2025. On December 23, 2024 (ML24341A213), the NRC granted an exemption to allow the use of the outage work rules in 10 CFR 26.205(d)(4) for a 21-day period starting no earlier than January 6, 2025, and no later than January 31, 2025, to support a maintenance window to allow testing, discovery, and resolution of discovery items to prevent an extension of the ongoing extended turbine generator outage. That maintenance window has been completed. However, to provide the support needed for startup from extended turbine generator outage, and to allow for the discovery and resolution of any discovery items, TVA has requested a one-time exemption from the non-outage work hour controls in 10 CFR 26.205(d)(7) for personnel in the categories described in 10 CFR 26.4(a)(1), (a)(2), and (a)(4) so that it can complete a 3-week startup and maintenance window scheduled to begin in March 2025. TVA stated that operating experience with past refueling outages has demonstrated that such discovery and resolution requires the use of the “outage work hour rules” under 10 CFR 26.205(d)(4).

III. Discussion

Pursuant to 10 CFR 26.9, the Commission may, upon application of any interested person or on its own initiative, grant exemptions from the requirements of 10 CFR part 26 as it determines (1) are authorized by law; (2) will not endanger life or property; (3) will not endanger the common defense and security; and (4) are otherwise in the public interest.

A. The Exemption Is Authorized by Law

The proposed exemption would authorize a one-time exemption from the requirements of 10 CFR 26.205(d)(7) to allow the use of the less restrictive work hour controls in 10 CFR 26.205(d)(4) for up to an additional 21 days. As stated, 10 CFR 26.9 allows the Commission to grant exemptions from the requirements of 10 CFR part 26, including 10 CFR 26.205(d)(7), when, in part, the exemptions are authorized by law. Exemptions are authorized by law where they are not expressly prohibited by statute or regulation. A proposed exemption is implicitly authorized by law if it will not endanger life or property or the common defense and security and is otherwise in the public interest and no other provisions in law prohibit, or otherwise restrict, its application. The NRC staff has determined that no provisions in law expressly prohibit or otherwise restrict the application of the requested exemption. The NRC staff has also determined, as explained in subsequent sections of this document, that the requested exemption will not endanger life or property or the common defense and security and is otherwise in the public interest. Therefore, the exemption is authorized by law.

B. The Exemption Will Not Endanger Life or Property

The purpose of 10 CFR part 26, subpart I, “Managing Fatigue,” is to ensure that fatigue does not compromise the abilities of specified individuals to perform their duties safely and competently. The purpose of 10 CFR 26.205(d)(4) is to provide licensees flexibility in scheduling required days off while accommodating more intense work schedules associated with a unit outage for a limited period of time.

Under the proposed exemption, personnel in the categories described in 10 CFR 26.4(a)(1), (a)(2), and (a)(4) would be permitted to work in accordance with the less restrictive outage MDO requirements in 10 CFR 26.205(d)(4) for up to an additional 21 days. TVA cited regulatory position C.10 of NRC Regulatory Guide 5.73, “Fatigue Management for Nuclear Power Plant Personnel” (ML083450028), which discusses the expectation that licensees should confirm that an individual transitioning from an outage at one plant to another “has had a 34-hour break period within the 9 days that precede the day on which the individual begins working for the receiving licensee.” TVA stated that from the completion of the 3-week maintenance window in January 2025 to the present date, personnel in the categories described in 10 CFR 26.4(a)(1), (a)(2), and (a)(4) have worked under the online work hour rules (in 10 CFR 26.205(d)(7)) and will continue to do so until commencement of the proposed period of the exemption, and have been granted annual leave and other personal time-off as requested.

The NRC staff determined that the added mitigating actions of providing a rest and reset period prior to the proposed exemption period, maintaining the non-outage work hour controls in 10 CFR 26.205(d)(7) during the 8-week period from the completion of the 3-week maintenance window in January 2025 until the commencement of the proposed exemption period, while allowing the affected workers to use annual leave or other personal time-off as requested, and the use of an outage oversight plan for fatigue assessments during the proposed work period will allow TVA to adequately manage cumulative fatigue during the proposed exemption period of up to 21 days. Acute fatigue will be managed using the outage MDO requirements combined with fatigue assessments by supervisors, which is consistent with common practice during unit outages. Based on this, the NRC staff finds that the proposed mitigating actions will adequately manage cumulative and acute fatigue. Therefore, the exemption will not endanger life or property.

C. The Exemption Will Not Endanger the Common Defense and Security

The proposed exemption would authorize a one-time exemption from the requirements of 10 CFR 26.205(d)(7) to allow the use of the less restrictive work hour controls in 10 CFR 26.205(d)(4) for up to an additional 21 days. The proposed exemption is not applicable to security personnel, nor does it have any relation to or impact on security issues. Therefore, the exemption will not endanger the common defense and security.

D. The Exemption Is Otherwise in the Public Interest

The proposed exemption would authorize a one-time exemption from the requirements of 10 CFR 26.205(d)(7) to allow the use of the less restrictive work hour controls in 10 CFR 26.205(d)(4) for up to an additional 21 days. In considering whether this exemption would be in the public interest, the NRC staff considered several factors, including:

• the unplanned nature of the shutdown and extended outage;

• the public health and safety interests of the communities impacted by the safe operation of the plant; and

• the potential adverse impacts on communities resulting from any further extension of the shutdown of the unit, which could challenge the reliability of the service territory and result in not meeting reserve capacity for the warmer months.

The NRC staff considered that the current outage was not planned and has extended beyond the initial 60 days of the less restrictive outage work hour controls in 10 CFR 26.205(d)(4). The NRC staff also considered TVA's reasonable efforts to develop a proposed maintenance window schedule that accommodates startup, and to allow for discovery and resolution of issues.

In its exemption request, TVA discussed the potential impacts of the Commission not granting the proposed exemption. TVA stated that without this exemption, TVA would be challenged from a reliability perspective, as the area supplied by the unit transitions further into a period of the year characterized by warmer weather and higher loads. TVA discussed the likelihood that without the exemption, TVA may need to commit other generating assets or purchase replacement power from the market, which could introduce reliability risk.

The NRC staff considered the balance of public interest considerations. The NRC staff considered the importance of the maintenance activities and the potential impacts of not granting the exemption, including the potential need for TVA to extend the Sequoyah, Unit 2, outage if non-outage work hour controls were to reduce the availability of personnel. The NRC staff also considered the potential impacts of granting the exemption, including impacts that could result from an increase in overall cumulative fatigue due to personnel working longer hours for an extended period beyond that of a typical outage under the established regulatory limits. However, as explained, TVA currently has mitigating actions in place for managing cumulative and acute fatigue that include adequate rest intervals and assessments for fatigue. Also, TVA will have adequately managed fatigue for personnel in the categories described in 10 CFR 26.4(a)(1), (a)(2), and (a)(4) leading up to the exemption period through compliance with the requirements in 10 CFR 26.205(d)(7). Based on these considerations, the NRC staff finds that there are no expectations for an impact on the public health and safety as a result of an increase in fatigue for the proposed period of up to 21 days. The NRC staff also finds that an earlier conclusion of the Sequoyah, Unit 2, extended outage may allow TVA to meet elevated electrical demands without relying on purchasing replacement power. Finally, the NRC staff finds that TVA took reasonable measures in its project planning to ensure that all testing, maintenance, and resolution of discovery items will be completed within the proposed exemption period. Therefore, the exemption is otherwise in the public interest.

E. Environmental Considerations

The Commission has determined that granting the proposed one-time exemption from the requirements of 10 CFR 26.205(d)(7) to allow the use of the less restrictive work hour controls in 10 CFR 26.205(d)(4) for up to an additional 21 days involves (1) no significant hazards consideration, (2) no significant change in the types or significant increase in the amounts of any effluents that may be released offsite, (3) no significant increase in individual or cumulative public or occupational radiation exposure, (4) no significant construction impact, and (5) no significant increase in the potential for or consequences from radiological accidents.

(1) Under 10 CFR 50.92(c), there is no significant hazards consideration if the action does not (1) involve a significant increase in the probability or consequences of an accident previously evaluated; (2) create the possibility of a new or different kind of accident from any accident previously evaluated; or (3) involve a significant reduction in a margin of safety.

The proposed exemption is administrative in nature because it provides an additional period when less restrictive outage work hour controls can apply for personnel in the categories described in 10 CFR 26.4(a)(1), (a)(2), and (a)(4). The proposed exemption has no effect on structures, systems, and components (SSCs) and no effect on the capability of the SSCs to perform their design function. The proposed exemption does not make any changes to the facility or operating procedures and does not alter the design, function, or operation of any plant equipment. Therefore, the exemption does not increase the probability or consequences of an accident previously evaluated.

Similarly, the proposed exemption does not authorize any physical changes to any SSCs involved in the mitigation of any accidents. Therefore, the exemption does not create the possibility of a new or different kind of accident from any accident previously evaluated.

The proposed exemption does not authorize alteration of the design basis or any safety limits for the plant. The exemption would not impact station operation or any SSC that is relied upon for accident mitigation. Therefore, the exemption does not involve a significant reduction in a margin of safety.

For these reasons, the NRC staff has determined that approval of the proposed exemption involves no significant hazards consideration.

(2) The proposed exemption does not authorize any changes to the design basis requirements for the SSCs at Sequoyah, Unit 2, that function to limit the release of non-radiological effluents, radiological liquid effluents, or radiological gaseous effluents during and following postulated accidents. Additionally, the exemption does not change any requirements with respect to the conduct of radiation surveys and monitoring. Therefore, there is no significant change in the types or significant increase in the amounts of any effluents that may be released offsite.

(3) The proposed exemption does not affect the limits on the release of any radioactive material or the limits provided in 10 CFR part 20 for radiation exposure to workers or members of the public. Additionally, the exemption will not increase or decrease the amount of work activities that must be completed in order to connect the reactor unit to the electrical grid. Therefore, there is no significant increase in individual or cumulative public or occupational radiation exposure.

(4) The proposed exemption does not involve any construction. Therefore, there is no significant construction impact.

(5) The proposed exemption does not alter any of the assumptions or limits in the licensee's accident analyses. Therefore, there is no significant increase in the potential for or consequences from radiological accidents.

Based on the foregoing and because the requirements from which the exemption is sought involve other requirements of an administrative, managerial, or organizational nature, the exemption meets the eligibility criteria for categorical exclusion set forth in 10 CFR 51.22(c)(25)(vi)(I). Therefore, in accordance with 10 CFR 51.22(b), no environmental impact statement or environmental assessment need be prepared in connection with granting the proposed exemption.

IV. Conclusion

Accordingly, the Commission has determined that, pursuant to 10 CFR 26.9, the exemption is authorized by law, will not endanger life or property or the common defense and security, and is otherwise in the public interest. Therefore, the Commission hereby grants TVA a one-time exemption from 10 CFR 26.205(d)(7) for personnel in the categories described in 10 CFR 26.4(a)(1), (a)(2), and (a)(4) to allow the use of the outage MDO requirements in 10 CFR 26.205(d)(4) for a 21-day period starting no earlier than March 24, 2025, and no later than May 15, 2025. While the exemption is in effect, TVA will ensure that individuals specified in 10 CFR 26.4(a)(1) and (a)(2) have at least 3 days off in each successive (i.e., non-rolling) 15-day period and that individuals specified in 10 CFR 26.4(a)(4) have at least 1 day off in any 7-day period. The use of the outage MDO requirements and an outage plan will adequately manage cumulative and acute fatigue for covered personnel. The exemption ends either at the end of the approved 21-day period or at the time when Sequoyah, Unit 2, is connected to the electrical grid, whichever occurs first.

Dated: March 20, 2025.

For the Nuclear Regulatory Commission.

/RA/

Aida Rivera-Varona,

Deputy Director, Division of Operating Reactor Licensing, Office of Nuclear Reactor Regulation.

[FR Doc. 2025-05098 Filed 3-25-25; 8:45 am]

BILLING CODE 7590-01-P